DEPARTMENT OF LABOR

Employment and Training Administration

[TA-W-42,291]

Playtex Apparel, Inc., Dover, DE; Notice of Termination of Investigation

Pursuant to section 221 of the Trade Act of 1974, an investigation was initiated on October 28, 2002 in response to a worker petition, which was filed on behalf of workers at Playtex Apparel, Inc, Dover, Delaware.

The petitioners have requested that the petition be withdrawn. Consequently, further investigation in this case would serve no purpose, and the investigation has been terminated.

Signed in Washington, DC, this 12th day of November, 2002.
Elliott S. Kushner,
Certifying Officer, Division of Trade Adjustment Assistance.

[FR Doc. 02-29641 Filed 11-20-02; 8:45 am]

BILLING CODE 4510-30-P